DEPARTMENT OF STATE

[Public Notice 5361]

Bureau of Educational and Cultural Affairs (ECA) Request for Grant Proposals: Arts Exchanges on International Issues Program

Announcement Type: New Grant.

Funding Opportunity Number: ECA/PE/C/CU-06-03.

Catalog of Federal Domestic Assistance Number: 19.409.

Key Dates: Application Deadline: May 11, 2006.

Executive Summary: The Cultural Programs Division of the Office of Citizen Exchanges, Bureau of Educational and Cultural Affairs announces an open competition for grants to implement programs that utilize the arts to engage underserved youth in selected countries abroad, and foster linkages and build partnerships between U.S. and overseas non-profit arts and cultural organizations. These international arts exchange projects will encourage democracy building by demonstrating the opportunities for freedom of thought and expression and underscoring the importance of empowerment in an open society.

Proposed projects should:

• Engage U.S. and overseas artists and arts educators with young artists, underserved youth and youth influencers (including teachers, artists and community leaders) through exchange projects in which one or more artistic discipline is the core content of the program.

• Increase mutual respect and create partnerships between key professionals in arts education and youth arts programs in the United States and in other countries through multi-phased people-to-people exchange projects taking place over eighteen to twenty-four months.

U.S. public and non-profit arts organizations, arts education programs and institutions, after-school and out-of-school arts programs for youth, and art-related departments of higher education institutions, meeting the provisions described in Internal Revenue code section 26 U.S.C. 501(c)(3), and that have four or more years of experience in conducting cultural programs for youth may submit proposals that support the goals of the Arts Exchanges on International Issues Program. Please see Section 111.3 below for other eligibility requirements.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

The Bureau seeks proposals for projects in which youth influencers reach underserved youth audiences through arts education programs, and youth develop their artistic and leadership capabilities. The projects should increase the ability of cultural organizations to be responsive to their local communities, especially to underserved youth, through innovative arts and arts education programming and institutional capacity building. Exchange participants and programs should produce an artistic or educational product for the public, such as a performance, film, presentation, exhibition or curriculum model that enhances the broader overseas youth community as well as the program participants.

The proposed program should reach communities with limited access to existing arts educational programs, or in which cultural programs would be especially effective in strengthening on-going outreach and education programs among public audiences. Proposals that show strong prospects for enhancing existing long term collaborations or establishing new collaborative efforts among participating organizations will be deemed more competitive under the program planning and implementation criterion listed in Section V.1 below.

Participants

Project participants who travel internationally may be professional artists, arts educators, arts administrators, youth (must be at least 18 years old), filmmakers or other arts and cultural experts. However, in-country youth project participants and audiences at public presentations should include adolescents, young people and the general public. Non-local young public audiences may also participate in the project through tools such as broadcasting and where appropriate, Webcasting.

Except in countries experiencing severe security concerns that would prevent the travel of U.S. participants, programs must be two-way exchanges of people, supporting the travel of roughly equal numbers of participants from the U.S. and foreign countries. Exchanges with countries in which security is a consideration should include plans to modify the timing and/or re-configure the project design.

Projects Guidelines

Proposals will be accepted for projects in the following artistic disciplines; Film, Video and Digital Media; Performing Arts including Dance, Music, Traditional Arts and Theater; and Visual Arts including photography. Each project must use one of these artistic disciplines as a vehicle for U.S. and overseas participants to exchange best practices and innovative ideas to reach and engage underserved young audiences in one or more of the eligible countries listed below. Projects may last 18-24 months following the award of a grant.

Proposed projects should:

• Focus on the development and advancement of artistic and leadership skills of youth and youth influencers.

• Underscore the importance of empowerment, free expression, teamwork, leadership, creative and innovative thinking, and other democratic principles to the process of creating and presenting works of art.

• Serve youth and communities by promoting the arts as a mechanism for encouraging social change and increasing awareness of challenging social issues, including, but not limited to conflict resolution, democratic understanding, individual success in the economic world, HIV and AIDS prevention or building respect among different communities.

• Increase the ability of performing and visual arts organizations to be responsive to their local communities, especially to underserved youth, through innovative arts and arts education programming and institutional capacity building.

Project Outcomes

Project results should include strengthening the artistic and leadership capabilities of project participants including young artists and youth influencers; strengthening the ability of arts and cultural organizations to provide leadership, empower youth, especially from underserved communities, and address significant social issues of interest to the U.S.; and creating or developing ongoing productive relationships between U.S. and foreign artists, and arts and cultural organizations.

Participants and audiences will learn artistic techniques for communicating, expressing and comprehending ideas and perceptions. Youth and/or youth influencers will demonstrate increased levels of appreciation, knowledge and understanding of the arts and artistic skills. Foreign cultural organizations will expand their ability to provide leadership, youth and community empowerment. Each project will include the presentation of an artistic or educational product, developed by the U.S. and foreign participants.

Possible Program Components

• U.S. participants travel to the overseas exchange partner's country or countries to engage youth influencers and community leaders, to conduct workshops, residencies, and other arts projects with young artists and youth from underserved communities. This component may include presentations (performances, exhibitions and the like) that support the workshop and exchange activities.

• Working in cooperation with the public affairs sections of U.S. Embassies to the extent appropriate, U.S. participants select overseas candidates to participate in U.S.-based seminars, workshops, and shadowing experiences, and create either individual or joint projects that feature public presentations including film screenings, performances and exhibitions.

• Presentations and accompanying public programs should be designed to reach a large and diverse public audience in the partner country or countries, in addition to workshop participants. Presentations of work resulting from the project may also be scheduled in the U.S.; however, ECA funds cannot be used for this purpose.

• U.S. and overseas host cultural organizations devise and implement on-going programming and educational activities to engage youth and youth influencers.

• An alumni network will be created to foster professional development opportunities and the ongoing exchange of best practices.

Eligible Countries

Proposals will only be accepted for exchange projects with the countries listed below within the six Department of State geographic regions. Proposals that include countries not listed below will be declared technically ineligible and given no further consideration in the review process. Applicants may submit proposals for projects that encompass several of the following countries or regions:

AF—Senegal, Mali, Nigeria, Kenya, Tanzania.

EAP—Burma, Cambodia, China, Thailand, Vietnam.

EUR—Balkan Region [Projects should include at least three of the Balkan Countries: Albania, Bosnia/Herzegovina, Croatia, Kosovo, Macedonia, and Serbia/Montenegro], Belarus, Georgia, Turkey, Ukraine.

NEA—Bahrain, Jordan, Morocco, Oman, Saudi Arabia.

SCA—Bangladesh, Pakistan, Sri Lanka, Kyrgyzstan, Kazakhstan, Tajikistan, Uzbekistan.

WHA—Bolivia, Brazil, Colombia and Venezuela.

Application Information

Proposals should address each of the six review criteria. The Six Review Criteria, against which your proposal will be evaluated, are listed under the “Application Review Information”, Section V.1. of this RFGP. Proposals that do not address these criteria will be deemed not competitive during the review process.

In addition to addressing the Review Criteria, proposals should include documented evidence of the applicant and partner organization's artistic merit, including published reviews and letters of recommendation from experts in the artistic discipline featured in your project. However, work samples such as recordings and/or photographs are not requested and cannot be reviewed by the Bureau.

Competitive proposals should include the following elements:

• A clear statement in the narrative section describing which artistic discipline your project incorporates; and with which overseas country or countries you plan to engage in an exchange project;

• A program idea that involves youth as active participants in the arts experience. Cultural programs in which young people will function only as passive audience members will be deemed non-competitive under Review Criteria Number 1, Quality of Program Idea, listed in the “Application Review Information”, Section V.1. of this RFGP;

• A clear description of program objectives and projected outcomes that respond to Bureau goals for this competition. Desired outcomes should be described in qualitative and quantitative terms. (See the Program Monitoring and Evaluation section, Number IV.3d.3 below, for more information on project objectives and outcomes);

• A project timeline, listing the optimal schedule for each program activity;

• A description of selection processes for both U.S. and overseas participants;

• Exchange activities that involve and affect audiences as well as the actual participants. Proposals should define the types of participants who will be recruited and the target audience for program activities, and should clearly explain the importance of each to the overall program plan;

• A description of each proposed overseas partner organization and an explanation of how partner organizations were selected; Letters of support, translated into English, from foreign and U.S. partners. Proposals that do not include letters of support and commitment from proposed overseas partner organizations will be ranked less competitive under Review Criteria Number 3, Institutional Capacity, listed in Section V.1. of this RFGP;

• An outline of the applicant organization's relevant expertise in the project theme and country(ies). Organizations that do not demonstrate a distinguished record of conducting cultural programs for youth will be rated not competitive under Review Criteria Number 3, Institutional Capacity, listed in Section V.1.;

• An alternative timeline and/or contingency program plan if the project will include countries with security issues;

• An outline of relevant experience managing previous international arts and/or cultural exchange programs;

• Resumes of responsible, experienced staff who have demonstrated a commitment to monitor grant projects and ensure implementation;

• A post-grant plan that demonstrates how the grantee plans to sustain contacts initiated through the program. Applicants should outline how U.S. and foreign participants and host institutions will continue their dialogue/exchange activities through on-going or future projects, once the ECA-funded grant has concluded. Optimally, follow-on plans should include activities to promote the desired policy outcomes, as well as communication activities such as ongoing Internet dialogs and newsletters.

In addition to addressing the themes described below, proposals should develop partner organizations' capacity in such areas as strategic planning, performance management, fund raising, financial management, human resource management and decision-making.

II. Award Information

Type of Award: Grant Agreement.

Fiscal Year Funds: FY-2006.

Approximate Total Funding: $1,200,000.

Approximate Number of Awards: 4-6 grants of $150,000 to $350,000, depending on the quality of the proposals. The Bureau reserves the possibility of awarding $60,000 grants to organizations that have at least four years of experience in conducting cultural programs for youth, but less than a four year track record in conducting international exchanges.

Approximate Average Award: $200,000.

Floor of Award Range: $50,000.

Ceiling of Award Range: $350,000.

Anticipated Award Date: August 30, 2006.

Anticipated Project Completion Date: January 31, 2008-July 31, 2008. Projects under this competition may range in length from eighteen to twenty-four months depending on the number of components, the country/region targeted and the extent of the evaluation plan proposed by the applicant. The Office of Citizen Exchanges strongly encourages applicant organizations to plan enough time after project activities to measure project outcomes. Please refer to the Program Monitoring and Evaluation section, Number IV.3d.3 below, for further guidance or evaluation.

Additional Information: Pending successful implementation of the projects and the availability of funds in subsequent fiscal years, ECA reserves the right to renew grants for up to two additional fiscal years before openly competing grants under this program again.

III. Eligibility Information

III.1. Eligible applicants: Applications may be submitted by public and private non-profit organizations meeting the provisions described in Internal Revenue Code section 26 U.S.C. 501(c)(3).

III.2. Cost Sharing or Matching Funds: When cost sharing is offered, it is understood and agreed that the applicant must provide the amount of cost sharing as stipulated in this RFGP and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Grants awarded to eligible organizations with less than four years of experience in conducting international exchange programs will be limited to $60,000.

(b) Technical Eligibility: In addition to the requirements outlined in the Proposal Submission Instructions (PSI) technical format and instructions document, all proposals must comply with the following or they will result in your proposal being declared technically ineligible and given no further consideration in the review process:

1. The Office does not support proposals limited to conferences or seminars (i.e. one-to-fourteen day programs with plenary sessions, main speakers, panels and passive audiences). It will support conferences only when they are a small part of a larger project in duration that is receiving Bureau funding from this competition.

2. No funding is available exclusively to send U.S. citizens to conferences or conference-type seminars overseas; nor is funding available for bringing foreign nationals to conferences or to routine professional association meetings in the United States.

3. The Office of Citizen Exchanges does not support academic research or faculty or student fellowships.

4. Proposals for projects involving countries/regions, themes and/or artistic disciplines not listed in the RFGP will be deemed technically ineligible.

5. No funding is available to send individual artists and/or amateur arts groups to perform or study overseas.

The Arts Exchanges on International Issues Program is solely intended to support the international exchange work of non-profit organizations. Our grant program is not open to amateur or community-based visual or performing artists. Individuals are not eligible to apply for funding of their own work. While our program emphasizes outreach to youth, all exchange participants must be at least 18 years of age. However, educators, managers, program directors and administrators who work with youth and/or youth related non-profit organizations are encouraged to apply for grant support under this competition.

IV. Application and Submission Information

Note: Please read the complete Federal Register announcement before sending inquiries or submitting proposals. Once the RFGP deadline has passed, Bureau staff may not discuss this competition with applicants until the proposal review process has been completed.

IV.1 Contact Information to Request an Application Package: Please contact LaFaye Proctor, Cultural Programs Division, ECA/PE/C/CU, Room 568, U.S. Department of State, SA-44, 301 4th Street, SW., Washington, DC 20547, phone number: (202) 203-7488; e-mail: ProctorLM@state.gov to request a Solicitation Package. Please refer to the Funding Opportunity Number ECA/PE/C/CU-06-03 located at the top of this announcement when making your request.

The Solicitation Package contains the Proposal Submission Instruction (PSI) document which consists of required application forms, and standard guidelines for proposal preparation.

Please specify the program officers coordinating this competition, Jill Staggs or Sarah Beale and refer to the Funding Opportunity Number ECA/PE/C/CU-06-03 located at the top of this announcement on all other inquiries and correspondence.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The original and 12 copies of the application should be sent per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet. com or call 1-866-705-5711. Please ensure that your DUNS number is included in the appropriate box of the SF—424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa: The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. FAX: (202) 453-8640.

IV.3d.2 Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

Describe your plans for: i.e. sustainability, overall program management, staffing, coordination with ECA and PAS or any other requirements etc.

IV.3e. Please take the following information into consideration when preparing your budget:

IV.3e.1. Applicants must submit a comprehensive budget for the entire program. Budget requests must not exceed $350,000. Proposals that contain budget requests of more than $350,000 will be declared technically ineligible. There must be a summary budget as well as breakdowns reflecting both administrative and program budgets. Applicants may provide separate sub-budgets for each program component, phase, location, or activity to provide clarification.

IV.3e.2. Allowable costs for the program include the following:

(1) Travel. International and domestic airfare (per the “Fly America Act”), ground transportation and visas. (J-1 visas for ECA-supported participants from overseas are issued through the Embassies at no charge).

(2) Per diem. For U.S.-based programming, organizations should use the published Federal per diem rates for individual U.S. cities. Domestic per diem rates may be accessed at: http://policyworks.gov/org/main/mt/homepage/mtt/perdiem/perd03d.html. ECA urges applicants to budget realistic costs, which reflect the local economy and do not exceed Federal per diem rates. Foreign per diem rates can be accessed at: http://www.state.gov/m/a/als/prdm/html.

(3) Interpreters. For U.S.-based activities, ECA strongly encourages applicants to hire their own locally based interpreters. However, applicants may ask ECA to assign State Department interpreters. One interpreter is typically needed for every four participants who require interpretation. When an applicant proposes to use State Department interpreters, the following expenses should be included in the budget: Published Federal per diem rates [both lodging and meals and incidental expenses (M&IE)] and “home-program-home” transportation in the amount of $400 per interpreter. Salary expenses for State Department interpreters will be covered by the Bureau and should not be part of an applicant's proposed budget. Bureau funds cannot support interpreters who accompany delegations from their home country or travel internationally.

(4) Book and cultural allowances. Foreign participants are entitled to a one-time cultural allowance of $150 per person, plus a book allowance of $50. Interpreters should be reimbursed up to $150 for expenses when they escort participants to cultural events. U.S. program staff, trainers or participants are not eligible to receive these benefits.

(5) Consultants. Consultants may be used to provide specialized expertise or to make presentations. Honoraria rates should not exceed $250 per day. Organizations are encouraged to cost-share rates that would exceed that figure. Subcontracting organizations may also be employed, in which case the written agreement between the prospective grantee and subcontractor should be included in the proposal. Such subcontractors should detail the division of responsibilities and proposed costs, and subcontracts should be itemized in the budget.

(6) Room rental. The rental of meeting space should not exceed $250 per day. Any rates that exceed this amount should be cost shared.

(7) Materials. Proposals may contain costs to purchase, develop and translate materials for participants. Costs for high quality translation of materials should be anticipated and included in the budget. Grantee organizations should expect to submit a copy of all program materials to ECA, and ECA support should be acknowledged on all materials developed with its funding.

(8) Equipment. Applicants may propose to use grant funds to purchase equipment, such as computers and printers. Costs for furniture are not allowed.

(9) Working meals. Only one working meal may be provided during the program. Per capita costs may not exceed $8 for a lunch and $20 for a dinner, excluding room rental. The number of invited guests may not exceed participants by more than a factor of two-to-one. When setting up a budget, interpreters should be considered “participants.”

(10) Return travel of participants. A return travel allowance of $70 for each participant may be included in the budget. This allowance would cover incidental expenses incurred during international travel.

(11) Health insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

(12) In-country travel costs for visa processing purposes. Given the requirements associated with obtaining J-1 visas for ECA-supported participants, applicants should include costs for any travel associated with visa interviews or DS-2019 pick-up.

(13) Administrative costs. Costs necessary for the effective administration of the program may include salaries for grantee organization employees, benefits, and other direct and indirect costs per detailed instructions in the Application Package. Administrative costs should not exceed twenty-five (25) per cent of the total amount requested from ECA for the project. Proposals in which the administrative costs exceed 25% of the total amount of funding requested from ECA for the project will be ranked less competitive in this review element. Proposals should show strong administrative cost sharing contributions from the applicant, the in-country partner and other sources.

Please refer to the Solicitation Package for complete budget guidelines and formatting instructions.

IV.3f. Submission Dates and Times: Application Deadline Date: Thursday, May 11, 2006.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and 12 copies of the application should be sent to:U.S. Department of State, SA-44, Bureau of Educational and Cultural Affairs, Ref.: ECA/PE/C/CU-06-03, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

Applicants must also submit the “Executive Summary” and “Proposal Narrative” sections of the proposal in text (.txt) format on a PC-formatted disk. The Bureau will provide these files electronically to the appropriate Public Affairs Section(s) at the U.S. embassy(ies) for its(their) review.

V. Application Review Information

V.1. Review Process: The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance award grants resides with the Bureau's Grants Officer.

Review Criteria

Technically eligible applications will be competitively reviewed according to the criteria stated below. These criteria are not rank ordered and all carry equal weight in the proposal evaluation:

1. Quality of Program Idea: The program idea must state how you plan to employ the arts to engage youth, particularly youth with limited opportunities, and youth influencers. Program objectives should be clearly described and should reflect the applicant's expertise in the artistic discipline and geographic world region featured in your project. The proposal should state the project's impact on both program participants (those who travel to the U.S. or the partner country, or in-country participants who are actively involved in the project) and audiences (those who attend public performances or exhibitions included in the project). The proposal should include documentation of artistic merit and quality through sources such as published reviews and letters of recommendation from experts in the artistic discipline featured in your project. However, work samples are not requested and cannot be evaluated by the Bureau.

2. Program Planning and Implementation: A detailed agenda and relevant work plan must explain how objectives will be achieved and should include a timetable for completion of major tasks. The substance of workshops, seminars and shadowing experiences should be described in detail. The program plan should include regularly scheduled sessions on an ongoing basis; one-time or occasional programs will not be considered. The program plan must include provisions for activities with the project participants and/or their organizations, after the Bureau-funded project has concluded. Post-grant planning can include, but should expand beyond on-going Internet dialogs, newsletters and/or other forms of communication between participants.

3. Institutional Capacity: Proposals should include the institution's mission and date that the organization was established. Proposals should reflect the institution's prior work with the overseas partner organization(s), expertise in the subject area and knowledge of conditions in the target country/countries, and ability to engage young participants and/or reach out to young audience members. Evidence of the overseas partner organization's artistic merit and ability should be included in your proposal. Descriptions of the experience and qualifications of staff members who will implement the program should be included in the proposals. Applicants also need to include an outline of prior U.S. government and/or private sector grant awards received for the target theme/country/region. The Bureau will consider the past performance of prior recipients and the demonstrated potential of new applicants. Proposals must include letters of support and commitment from proposed overseas partner organizations. Proposals that do not include letters of support and commitment from proposed overseas partner organizations will be ranked less competitive under this review element.

4. Cost Effectiveness and Cost Sharing: Overhead and administrative costs in the proposal budget, including salaries should be kept to a minimum and should not exceed twenty-five (25) per cent of the total amount requested from ECA for the project. Proposals in which the administrative costs exceed twenty-five (25) per cent of the total amount requested from ECA for the project will be ranked less competitive in this review element. Applicants are strongly encouraged to cost share a portion of overhead and administrative expenses. Cost sharing, including contributions from the applicant, proposed in-country partner(s) and other sources must be included in the budget request. Proposals that do not reflect a cost sharing of twenty (20) per cent will be ranked less competitive in this review category.

5. Support of Diversity: Proposals must demonstrate substantive support of the Bureau's policy on diversity [stated in the Bureau's Diversity, Freedom and Democracy Guidelines in the Proposal Submission Instructions (PSI)]. Achievable and relevant features should be cited in both program administration (selection of participants, program venue and program evaluation) and program content (including orientation and wrap-up sessions, program meetings, resource materials and follow-up activities). Competitive proposals will include strategies for selecting diverse participants from both the U.S. and the overseas partner country(ies).

6. Monitoring and Evaluation: Proposals should include a detailed plan to monitor and evaluate the program. Competitive evaluation plans will describe how applicant organizations will measure the project's success at meeting program objectives in quantitative terms, and should include draft data collection instruments such as surveys and questionnaires. Proposals should include a plan to evaluate the success of each component, both as activities unfold and at the end of the program. Evaluation plans should address the project's success in enhancing both the artistic and leadership skills of the targeted youth population. It is the applicant's responsibility to inform the Bureau of exchange activity results and changes to the program plan and/or project time-line.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants

http://exchanges.state.gov/education/grantsdiv/terms.htm#articleI

VI.3. Reporting Requirements: You must provide ECA with a hard copy original plus two copies of the following reports:

(1) A final program and financial report no more than 90 days after the expiration of the award;

(2) Quarterly program and financial reports which should include a summary of project activities accomplished and any changes or modifications to the remaining program components.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: The Cultural Programs Division, ECA/PE/C/CU, Room 568, ECA/PE/C/CU-06-03, Bureau of Educational and Cultural Affairs, U.S. Department of State, SA-44, 301 4th Street, SW., Washington, DC 20547, (202) 203-7488, ProctorLM@state.gov.

All correspondence with the Bureau concerning this RFGP should reference the above title and number: ECA/PE/C/CU-06-03.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 29, 2006.
C. Miller Crouch,
Principal Deputy Assistant Secretary, Bureau of Educational and Cultural Affairs, Department of State.

[FR Doc. 06-3209 Filed 4-4-06; 8:45 am]

BILLING CODE 4710-05-P